COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds a product and service to the Procurement List that will be furnished by nonprofit agencies employing persons who are blind or have other severe disabilities, and deletes a product and services from the Procurement List previously furnished by such agencies.

DATES: Date added to and deleted from the Procurement List: September 15, 2019

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 11/9/2018 and 6/28/2019, the Committee for Purchase From People Who Are Blind or Severely Disabled published notice of proposed additions to the Procurement List.

After consideration of the material presented to it concerning capability of qualified nonprofit agencies to provide the product and service and impact of the additions on the current or most recent contractors, the Committee has determined that the product and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the product and service to the Government.

3. There are no known regulatory alternatives which would accomplish the objectives of the Javits-Wagner-O'Day Act (41 U.S.C. 8501-8506) in connection with the product and service proposed for addition to the Procurement List.

End of Certification

Accordingly, the following product and service are added to the Procurement List:

Product

NSN—Product Name: 7920-00-NIB-0728—Dust Mop, Microfiber with Handle, Blue, 13″ x 10″

Mandatory Source of Supply: Mississippi Industries for the Blind, Jackson, MS

Mandatory For: Total Government Requirement

Contracting Activity: FEDERAL ACQUISITION SERVICE, GSA/FSS GREATER SOUTHWEST ACQUISITI

Service

Service Type: Facilities Maintenance Service

Mandatory for: US Coast Guard, US Coast Guard Training Center, Yorktown, VA

Mandatory Source of Supply: Skookum Educational Programs, Bremerton, WA

Contracting Activity: U.S. COAST GUARD, SILC BSS(00084)

Deletions

On 7/5/2019 and 7/12/2019, the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following products and services are deleted from the Procurement List:

Product

NSN—Product Name: 8465-00-174-0808—Bag, Personal Effects

Mandatory Source of Supply: Mount Rogers Community Services Board, Wytheville, VA

Contracting Activity: DLA TROOP SUPPORT, PHILADELPHIA, PA

Services

Service Type: Administrative Services

Mandatory for: Department of Health and Human Services, Region 8: 1961 Stout Street, Denver, CO

Mandatory Source of Supply: Bayaud Industries, Inc., Denver, CO

Contracting Activity: HEALTH AND HUMAN SERVICES, DEPARTMENT OF, DEPT OF HHS

Service Type: Grounds Maintenance

Mandatory for: Department of Energy: Nevada Support Facility, North Las Vegas, NV

Contracting Activity: ENERGY, DEPARTMENT OF, HEADQUARTERS PROCUREMENT SERVICES

Service Type: Janitorial/Custodial

Mandatory for: Walnut Creek National Wildlife Refuge, Prairie City, IA

Mandatory Source of Supply: Progress Industries—Deleted, Newton, IA

Contracting Activity: OFFICE OF POLICY, MANAGEMENT, AND BUDGET, NBC ACQUISITION SERVICES DIVISION

Service Type: Grounds Maintenance

Mandatory for: Bureau of Reclaimation: 6850 Studhorse Flat Road, New Melones Lake Visitors Center, Sonora, CA

Contracting Activity: OFFICE OF POLICY, MANAGEMENT, AND BUDGET, NBC ACQUISITION SERVICES DIVISION

Service Type: Laundry Service

Mandatory for: Billings Fire Cache: 551 Northview Drive, Billings, MT

Mandatory Source of Supply: Community Option Resource Enterprises, Inc. (COR Enterprises), Billings, MT

Contracting Activity: OFFICE OF POLICY, MANAGEMENT, AND BUDGET, NBC ACQUISITION SERVICES DIVISION

Service Type: Full Food Service

Mandatory for: Fort Drum: 45 West Street, Fort Drum, NY

Mandatory Source of Supply: Jefferson County Chapter, NYSARC, Watertown, NY

Contracting Activity: DEPT OF THE ARMY, W40M RHCO-ATLANTIC USAHCA

Service Type: Remanufacturing HP4 Laser Toner Cartridg

Mandatory for: Malmstrom Air Force Base, Malmstrom AFB, MT

Mandatory Source of Supply: Community Option Resource Enterprises, Inc. (COR Enterprises), Billings, MT

Contracting Activity: DEPT OF THE AIR FORCE, FA7014 AFDW PK

Service Type: Janitorial/Custodial

Mandatory for: Coeur d'Alene Nursery, 3600 Nursery Road, Coeur d'Alene, ID

Mandatory Source of Supply: Skils'kin, Spokane, WA

Contracting Activity: FOREST SERVICE, IDAHO PANHANDLE NF

Service Type: Administrative Services

Mandatory for: Social Security Administration: Active Files Unit, Philadelphia, PA

Mandatory Source of Supply: Elwyn, Aston, PA

Contracting Activity: HEALTH AND HUMAN SERVICES, DEPARTMENT OF, DEPT OF HHS

Service Type: Rehabilitation Support Services

Mandatory for: Central Arkansas Veterans Healthcare System, North Little Rock, AR

Mandatory Source of Supply: Pathfinder, Inc., Jacksonville, AR

Contracting Activity: VETERANS AFFAIRS, DEPARTMENT OF, NAC

Service Type: Janitorial/Custodial

Mandatory for: US Army Reserve, 1LT James McConnell USARC, Liverpool, NY

Mandatory Source of Supply: Oswego Industries, Inc., Fulton, NY

Contracting Activity: DEPT OF THE ARMY, W6QK ACC-PICA

Patricia Briscoe,
Deputy Director, Business Operations (Pricing and Information Management).

[FR Doc. 2019-17659 Filed 8-15-19; 8:45 am]

BILLING CODE 6353-01-P